ENVIRONMENTAL PROTECTION AGENCY

40 CFR Part 52

[GA44 & GA36-9948b; FRL-6547-3]

Approval and Promulgation of Revisions to the Georgia State Implementation Plan

AGENCY: Environmental Protection Agency (EPA)

ACTION: Proposed rule.

SUMMARY: The EPA proposes to approve the State Implementation Plan (SIP) revisions submitted by the State of Georgia on February 11, 1998, and November 19, 1998. The February 11, 1998, revisions update references to the August 15, 1997, version of Georgia's “Procedures for Testing and Monitoring Sources of Air Pollutants” manual. The November 19, 1998, revisions adopt new Permit by Rule provisions for several, small source categories, including: certain types of fuel-burning equipment, on-site power generation, concrete mixing plants, hot mix asphalt plants, cotton ginning operations, coating and/or gluing operations, printing operations, non-reactive mixing operations, fiberglass molding and forming operations, and peanut/nut shelling operations. For these categories of sources that operate below the major source threshold, the rules may negate the need to file for a Part 70 Permit (also known as a “Title V Permit”) or a synthetic minor permit. In the Final Rules Section of this Federal Register, the EPA is approving the State's SIP revision as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period on this document. Any parties interested in commenting on this document should do so at this time.

DATES: Written comments must be received on or before April 12, 2000.

ADDRESSES: All comments should be addressed to: Michele Notarianni, Air Planning Branch, Air, Pesticides, and Toxics Management Division, EPA Region 4, 61 Forsyth Street, SW, Atlanta, Georgia 30303.

FOR FURTHER INFORMATION CONTACT: Michele Notarianni at 404/562-9031 (or by e-mail at: notarianni.michele@epa.gov).

SUPPLEMENTARY INFORMATION: For additional information, see the direct final rule which is published in the Final Rules Section of this Federal Register.

Dated: February 14, 2000.
A. Stanley Meiburg,
Acting Regional Administrator, Region 4.

[FR Doc. 00-5387 Filed 3-10-00; 8:45 am]

BILLING CODE 6560-50-P